NUCLEAR REGULATORY COMMISSION

[Docket No. 50-331]

FPL Energy Duane Arnold, LLC; Notice of Withdrawal of Application for Amendment to Facility Operating License No. DPR-49

The U.S. Nuclear Regulatory Commission (NRC, the Commission) has granted the request of FPL Energy Duane Arnold, LLC (the licensee) to withdraw its November 14, 2007, application for proposed amendment (Agencywide Documents Access and Management System (ADAMS) Accession No. ML073320232) to Facility Operating License No. DPR-49 for the Duane Arnold Energy Center, located in Linn County.

The proposed amendment would have revised Technical Specification (TS) 5.5.12, “Primary Containment Leakage Rate Testing Program,” to allow use of the requirements of American Society of Mechanical Engineers (ASME) Boiler and Pressure Vessel Code (the Code), Section XI, Subsection IWE for visual examination of the steel containment. This license amendment request was consistent with NRC-approved Technical Specification Task Force (TSTF) Traveler number TSTF-343, Revision 1, “Containment Structural Integrity.”

The Commission had previously issued a Notice of Consideration of Issuance of Amendment published in the Federal Register on January 28, 2008 (73 FR 5220). However, by letter dated April 23, 2008, ADAMS Accession No. ML081270233, the licensee withdrew the proposed change.

For further details with respect to this action, see the application for amendment dated November 14, 2007, and the licensee's letter dated April 23, 2008, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 30th day of May 2008.
For the Nuclear Regulatory Commission.
Karl Feintuch,
Project Manager, Plant Licensing Branch III-1, Division of Operating Reactor Licensing, Office of Nuclear Reactor Regulation.

[FR Doc. E8-12699 Filed 6-5-08; 8:45 am]

BILLING CODE 7590-01-P